NUCLEAR REGULATORY COMMISSION

Memorandum of Understanding Between the U.S. Nuclear Regulatory Regulatory Commission and the U.S. Department of Health and Human Services, Food and Drug Administration

AGENCY: Nuclear Regulatory Commission.

ACTION: Notice of renewal of Memorandum of Understanding (MOU) between the U.S. Nuclear Regulatory Commission and the U.S. Department of Health and Human Services, Food and Drug Administration (DHHS, FDA).

SUMMARY: The NRC and the DHHS, FDA, signed a MOU on August 26, 1993, which describes the roles of the FDA and NRC, and the coordination between the two agencies. The MOU was noticed in the Federal Register on September 8, 1993 (58 FR 47300). This notice announces the renewal of the MOU, with Minor Changes. The latest version of the MOU can be found on the NRC Web site (http://www.nrc.gov/materials/medical.html).

FOR FURTHER INFORMATION, CONTACT: Thomas H. Essig, Office of Nuclear Materials Safety and Safeguards, MS T 8-F-5, U.S. Nuclear Regulatory Commission, Washington, DC 20555, Telephone (301) 415-7231.

Dated: December 13, 2002.
Thomas H. Essig,
Chief, Materials Safety and Inspection Branch, Division of Industrial and Medical Nuclear Safety, NMSS.

[FR Doc. 02-32245 Filed 12-20-02; 8:45 am]

BILLING CODE 7590-01-P